NATIONAL AERONAUTICS AND SPACE ADMINISTRATION

[Notice (11-095)]

NASA Advisory Committee; Renewal of NASA's International Space Station Advisory Committee Charter

AGENCY: National Aeronautics and Space Administration (NASA).

ACTION: Notice of renewal and amendment of the Charter of the International Space Station Advisory Committee.

SUMMARY: Pursuant to sections 14(b)(1) and 9(c) of the Federal Advisory Committee Act (Pub. L. 92-463), and after consultation with the Committee Management Secretariat, General Services Administration, the Administrator of the National Aeronautics and Space Administration has determined that a renewal of the International Space Station Advisory Committee is in the public interest in connection with the performance of duties imposed on NASA by law. The renewed Charter is for a one-year period ending September 30, 2012. It is identical to the original Charter in all respects, except it provides for a deputy chair in addition to the chair.

FOR FURTHER INFORMATION CONTACT: Dr. J. Donald Miller, Office of International and Interagency Relations, (202) 358-1527, National Aeronautics and Space Administration, Washington, DC 20546-0001.

October 11, 2011.
P. Diane Rausch,
Advisory Committee Management Officer, National Aeronautics and Space Administration.

[FR Doc. 2011-26802 Filed 10-14-11; 8:45 am]

BILLING CODE P